DEPARTMENT OF EDUCATION

Applications for New Awards; Technical Assistance and Dissemination To Improve Services and Results for Children With Disabilities—Model Demonstration Projects To Improve Adolescent Literacy for Students with Disabilities in Middle and High Schools, Grades 6-12

AGENCY: Office of Special Education and Rehabilitative Services, Department of Education.

ACTION: Notice.

Overview Information: Technical Assistance and Dissemination to Improve Services and Results for Children with Disabilities—Model Demonstration Projects to Improve Adolescent Literacy for Students with Disabilities in Middle and High Schools, Grades 6-12.

Notice inviting applications for new awards for fiscal year (FY) 2015.

Catalog of Federal Domestic Assistance (CFDA) Number: 84.326M.

DATES: Applications Available: March 18, 2015.

Deadline for Transmittal of Applications: May 4, 2015.

Deadline for Intergovernmental Review: July 1, 2015.

Full Text of Announcement

I. Funding Opportunity Description

Purpose of Program: The purpose of the Technical Assistance and Dissemination to Improve Services and Results for Children with Disabilities program is to promote academic achievement and to improve results for children with disabilities by providing technical assistance (TA), supporting model demonstration projects, disseminating useful information, and implementing activities that are supported by scientifically based research.

Priority: In accordance with 34 CFR 75.105(b)(2)(v), this priority is from allowable activities specified in the statute or otherwise authorized in the statute (see sections 663 and 681(d) of the Individuals with Disabilities Education Act (IDEA), 20 U.S.C. 1463, 1481(d).

Absolute Priority: For FY 2015 and any subsequent year in which we make awards from the list of unfunded applicants from this competition, this priority is an absolute priority. Under 34 CFR 75.105(c)(3), we consider only applications that meet this priority.

This priority is:

Technical Assistance and Dissemination to Improve Services and Results for Children with Disabilities—Model Demonstration Projects to Improve Adolescent Literacy for Students with Disabilities in Middle and High Schools, Grades 6-12.

Background: The purpose of this priority is to fund three cooperative agreements to establish and operate model demonstration projects that are designed to improve adolescent literacy for students with disabilities in middle and high school grades 6 through 12, who score below grade level in reading, or who have identified reading goals and objectives on their individualized education program. Results from the National Assessment of Educational Progress (NAEP) demonstrate that there is a persistent gap in reading achievement between students with disabilities and those without disabilities. In 2013, the average scaled scores of eighth graders with disabilities, excluding those with a 504 plan, were 42 points lower than their non-disabled peers. Sixty-five percent of eighth graders with disabilities scored below basic level on the reading assessment compared with 19 percent of eighth graders without disabilities (U.S. Department of Education, 2014).

Adolescents must possess the ability to read for understanding across a wide variety of content in order to meet college- and career-ready standards. Elements of literacy at the middle and secondary level include the ability to recognize and decode words and how students engage in reading as well as writing and oral communication skills.

To improve adolescent literacy, as defined for the purpose of this priority, models should be designed to implement evidence-based adolescent literacy interventions that are based on strong theory or evidence of promise for improving reading, and locating, understanding, interpreting, evaluating, and using written information across multiple content areas. Intensive reading intervention to improve adolescent literacy should also include a mix of effective instruction, modeling, professional development, and evidence-based teaching practices that are appropriate for classroom and small group settings. Evidence also suggests the implementation of reading interventions requires well trained professionals who are prepared to incorporate these interventions within instruction across subjects in middle and high school grades (Faggella-Luby, Ware, & Capozzoli, 2009). Therefore, adolescent literacy models should also include professional development as a component of the model. In addition, such models need to be replicable across content areas in classrooms and small group settings in multiple school sites, with a goal of scaling-up the intervention for wider use.

Priority: The purpose of this priority is to fund three cooperative agreements to establish and operate model demonstration projects that are designed to improve the literacy of adolescents with disabilities in middle and high school grades. For purposes of this priority, the target population includes: Students with disabilities in grades 6 through 12 who score below grade level in reading, or who have identified reading goals and objectives on their individualized education program. For purposes of this priority, the term “adolescent literacy” refers to the skills needed by individuals with disabilities in middle or high school grades to locate, read, understand, interpret, evaluate, and use written information across multiple content areas.

(a) Model demonstration projects funded under this priority must direct their efforts at improving adolescent literacy interventions in content areas using effective whole-class and small group instructional approaches for students with disabilities;

(b) Models must also include—

(1) A professional development component to teach educators how to implement the interventions with fidelity across a variety of content areas.

(2) Strategies for replicating interventions used by educators so they are effective when brought to scale across multiple classrooms within the participating local educational agency (LEA).

(c) Each model must include a plan to implement at least one evidence-based adolescent literacy intervention that applies strong theory or evidence of promise. In addition, these models must be implemented at multiple school sites and include professional development for all content area teachers at all middle and high school grades targeted to receive the intervention.

To be considered for funding under this absolute priority, applicants must meet the application requirements contained in this priority. Each project funded under this absolute priority also must meet the programmatic and administrative requirements specified in the priority.

Application Requirements. An applicant must include in its application—

(a) A detailed review of the research evidence that supports the effectiveness of the proposed model, its components, and processes to improve outcomes for adolescents with disabilities in middle and high school grades;

(b) A logic model that depicts, at a minimum, the goals, activities, outputs, and outcomes of the proposed model demonstration project. The logic model must describe how LEAs and participating schools involved in the project would contribute to the activities, outputs, and outcomes of the proposed project. A logic model communicates how a project will achieve its outcomes and provides a framework for both the formative and summative evaluations of the project;

Note: While section 77.1(c) of EDGAR contains a definition for “logic model,” OSEP, based upon its experience in this area, has been using the above definition as standard language for the OSEP TA&D priorities. OSEP's definition establishes a difference between logic models and conceptual frameworks whereas 34 CFR 77.1(c) considers the model to be one and the same. The following Web sites provide more information on logic models: www.researchutilization.org/matrix/logicmodel_resource3c.html and www.tadnet.org/pages/589.

(c) A description of the activities of the proposed model demonstration project to improve literacy for adolescents with disabilities in subject areas taught in middle and high schools. The description must include:

(1) Intervention components, including:

(i) Evidence-based literacy instruction and interventions that are provided to the adolescents with disabilities, and are replicable across a variety of content areas by each participating school within a participating LEA;

(ii) An explanation of the culturally responsive principles ¹ to be incorporated within the interventions;

¹ Culturally responsive principles promote redesigning the learning environments to support the development and success of all students. Some examples of incorporating culturally responsive principles into learning environments include communicating high expectations to all students, incorporating students' cultural and home experiences into lessons by reshaping the curriculum to reflect students' experiences, and engaging students in activities where they can converse with one another on topics that tap into their background knowledge and experiences (Gay, 2000; King, Artiles, & Kozleski, 2009).

(iii) An explanation of the professional development materials and activities that would be provided to school and LEA personnel to ensure that they implement the evidence-based intervention with fidelity; and

(iv) A data plan that outlines the process for collecting, assessing, and analyzing ² data for participating adolescents with disabilities. The data plan should include a description of how these data will be used to improve the instructional interventions.

² Applicants must ensure the confidentiality of individual data, consistent with the requirements of section 444 of the General Education Provisions Act (20 U.S.C. 1232g), commonly known as the “Family Educational Rights and Privacy Act” (FERPA), and State laws or regulations concerning the confidentiality of individual records. Final FERPA regulatory changes became effective January 3, 2012, and include requirements for data sharing. Applicants are encouraged to review the final FERPA regulations published on December 2, 2011 (76 FR 75604). Questions can be sent to the Family Policy Compliance Office (www.ed.gov/fpco) at (202) 260-3887 or FERPA@ed.gov.

(2) Components that will be implemented in each participating school and LEA and that—

(i) Identify the methods and criteria that will be used to select ³ and recruit ⁴ at least three middle or high schools and describe the schools and LEAs that will participate in the project, including their populations and whether the LEAs or the schools that are participating are high-poverty, high-need,⁵ rural,⁶ urban, or suburban; and

³ For factors to consider when selecting model demonstration sites, the applicant should refer to Assessing Sites for Model Demonstration: Lessons Learned for OSEP Grantees at http://mdcc.sri.com/documents/reports/MDCC_Site_Assessment_Brief_09-30-11.pdf. The document also contains a site assessment tool.

⁴ The applicant must describe who is going to be contacted within the district(s) and how “buy-in” from these and other leaders will be solicited.

⁵ Section 2102(3) of the Elementary and Secondary Education Act of 1965, as amended (ESEA) defines a “high-need LEA” as an LEA—(A)(i) That serves not fewer than 10,000 children from families with incomes below the poverty line (as that term is defined in section 9101(33) of the ESEA); or (ii) for which not less than 20 percent of the children served by the LEA are from families with incomes below the poverty line; and (B)(i) for which there is a high percentage of teachers not teaching in the academic subjects or grade levels that the teachers were trained to teach; or (ii) for which there is a high percentage of teachers with emergency, provisional, or temporary certification or licensing.

⁶ For purposes of this priority, “rural LEA” means an LEA that is eligible under the Small Rural School Achievement (SRSA) program or the Rural and Low-Income School (RLIS) program authorized under Title VI, Part B of the ESEA. Applicants may determine whether a particular LEA is eligible for these programs by referring to the information on the following Department Web sites. For SRSA: http://www2.ed.gov/programs/reapsrsa/index.html. For RLIS: http://www2.ed.gov/programs/reaprlisp/eligibility.html.

Note: Applicants are encouraged to identify, to the extent possible, LEAs and schools willing to participate in the applicant's model demonstration. Final site selection will be determined in consultation with the OSEP project officer following the kick-off meeting described in paragraph (d)(1) of these application requirements.

(ii) Provide initial and ongoing professional development, including coaching, for educators involved in implementing the models; and

(3) Evaluation components, including:—

(i) How the applicant will measure the extent to which project activities maintain fidelity to the proposed model;

(ii) How the applicant will measure the social validity of the model—in other words, measuring the satisfaction of stakeholders' (i.e., educators', parents', and students') with the model components, processes, and outcomes;

(iii) A formative evaluation plan, consistent with the project's logic model and the data-collection plan that will include, as appropriate, periodic collection of student performance and achievement data, as well as the data collection systems that will be used to measure the fidelity of the implementation activities to the proposed model, stakeholder satisfaction, and descriptions of the settings where the intervention will take place. The plan must outline how these data will be reviewed by project staff, when they will be reviewed, and how they will be used during the course of the project to adjust the model or its implementation to increase the model's usefulness, generalizability, and potential for sustainability; and

(iv) The timeline and plan to collect summative evaluation data on the reading achievement of adolescents with disabilities and their nondisabled peers; and

(d) A budget for attendance at the following:

(1) A one and one half-day kick-off meeting to be held in Washington, DC, after receipt of the award.

(2) The three-day Project Directors' Conference in Washington, DC, during each year of the project period; and

(3) Six travel days spread across years 2-4 of the project period to attend planning meetings, Department briefings, Department-sponsored conferences, and other meetings, as requested by OSEP, to be held in Washington, DC, with the OSEP project officer.

Other Project Activities. To meet the requirements of this priority, each project, at a minimum, must:

(a) Document the process for model replication purposes, should the model be successful;

(b) Communicate and collaborate on an ongoing basis with other Department-funded literacy projects to share information on successful strategies and implementation challenges regarding adolescent literacy instruction and achievement;

(c) Maintain ongoing telephone and email communication with the OSEP project officer and the other model demonstration projects funded under this priority; and

(d) If the project maintains a Web site, include relevant information about the model, the intervention, and the demonstration activities that meets government- or industry-recognized standards for accessibility.

References:

Faggella-Luby, M. N., Ware, S. M., & Capozzoli, A. (2009). Adolescent literacy—Reviewing adolescent literacy reports: Key components and critical questions. Journal of Literacy Research, 41, 453-475.

Gay, G. (2000). Culturally responsive teaching: Theory, research, and practice. New York: Teachers College Press.

King, K. A., Artiles, A. J., & Kozleski, E. B. (2009). Professional learning for culturally responsive teaching. Retrieved from www.equityallianceatasu.org/sites/default/files/Web site_files/exemplarFINAL.pdf.

U.S. Department of Education, Institute of Education Sciences. (2014). National Center for Education Statistics, National Assessment of Educational Progress (NAEP), The Nation's Report Card. Washington, DC: Author. Retrieved from http://nationsreportcard.gov.

Waiver of Proposed Rulemaking: Under the Administrative Procedure Act (APA) (5 U.S.C. 553), the Department generally offers interested parties the opportunity to comment on proposed priorities and requirements. However, section 681(d) of the IDEA makes the public comment requirements of the APA inapplicable to the priority in this notice.

Program Authority: 20 U.S.C. 1463 and 1481.

Applicable Regulations:

The following regulations apply: (a) The Education Department General Administrative Regulations (EDGAR) in 34 CFR parts 75, 77, 79, 81, 82, 84, 86, 97, 98, and 99. (b) The Education Department debarment and suspension regulations as adopted in 2 CFR part 3485 and the Uniform Administrative Requirements, Cost Principles, and Audit Requirements for Federal Awards as adopted as regulations of the Department in 2 CFR part 3474.⁷

⁷ If a for-profit (commercial) organization is awarded a grant, it will be required to comply with the Uniform Guidance in 2 CFR part 200, as adopted as regulations of the Department at 2 CFR part 3474.

Note: The regulations in 34 CFR part 79 apply to all applicants except federally recognized Indian tribes.

Note: The regulations in 34 CFR part 86 apply only to institutions of higher education (IHEs).

II. Award Information

Type of Award: Cooperative agreements.

Estimated Available Funds: $1,200,000.

Contingent on the availability of funds and the quality of applications, we may make additional awards in FY 2016 from the list of unfunded applicants from this competition.

Estimated Range of Awards: $375,000 to $400,000.

Estimated Average Size of Award: $400,000.

Maximum Award: We will reject and not review any application that proposes a budget exceeding $400,000 for a single budget period of 12 months. The Assistant Secretary for Special Education and Rehabilitative Services may change the maximum amount through a notice published in the Federal Register.

Estimated Number of Awards: 3.

Note: The Department is not bound by any estimates in this notice.

Project Period: Up to 48 months.

III. Eligibility Information

Eligible Applicants: State educational agencies (SEAs); LEAs, including public charter schools that are considered LEAs under State law; IHEs; other public agencies; private nonprofit organizations; outlying areas; freely associated States; Indian tribes or tribal organizations; and for-profit organizations.

2. Cost Sharing or Matching: This competition does not require cost sharing or matching.

3. Other: General Requirements:

(a) The projects funded under this competition must make positive efforts to employ, and advance in employment, qualified individuals with disabilities (see section 606 of the IDEA).

(b) Each applicant and grantee under this competition must involve individuals with disabilities or parents of individuals with disabilities ages birth through 26 in planning, implementing, and evaluating the project (see section 682(a)(1)(A) of the IDEA).

IV. Application and Submission Information

1. Address to Request Application Package: Education Publications Center (ED Pubs), U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this competition as follows: CFDA number 84.326M.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 50 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the abstract, the resumes, the bibliography, or the letters of support. However, the page limit does apply to all of the application narrative section (Part III).

We will reject your application if you exceed the page limit in the application narrative section; or if you apply standards other than those specified in the application package.

Submission of Proprietary Information:

Given the types of projects that may be proposed in applications for the Technical Assistance and Dissemination to Improve Services and Results for Children with Disabilities—Model Demonstration Projects to Improve Adolescent Literacy for Students with Disabilities in Middle and High Schools, Grades 6-12, your application may include business information that you consider proprietary. The Department's regulations define “business information” in 34 CFR 5.11.

Under the Department's transparency policies, we make successful applicants' abstracts available to the public.

Consistent with Executive Order 12600, please designate in your application any information that you feel is exempt from disclosure under Exemption 4 of the Freedom of Information Act. In the appropriate Appendix section of your application, under “Other Attachments Form,” please list the page number or numbers on which we can find this information. For additional information please see 34 CFR 5.11(c).

3. Submission Dates and Times:

Applications Available: March 18, 2015.

Deadline for Transmittal of Applications: May 4, 2015.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: July 1, 2015.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your Unique Entity Identifier (UEI) number and TIN with the System for Award Management (SAM), the Government's primary registrant database;

c. Provide your UEI number and TIN on your application; and

d. Maintain an active SAM registration with current information while your application is under review by the Department and, if you are awarded a grant, during the project period.

Currently, SAM relies on the identifier provided by Dun and Bradstreet (DUNS number) for the UEI. You can create a DUNS number within one business day.

If you are a corporate entity, agency, institution, or organization, you can obtain a TIN from the Internal Revenue Service. If you are an individual, you can obtain a TIN from the Internal Revenue Service or the Social Security Administration. If you need a new TIN, please allow 2-5 weeks for your TIN to become active.

The SAM registration process may take seven or more business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov. If you are currently registered with the SAM, you may not need to make any changes. However, please make certain that the TIN associated with your DUNS number is correct. Also note that you will need to update your registration annually. This may take three or more business days to complete. Information about SAM is available at www.SAM.gov. To further assist you with obtaining your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications.

Applications for grants under the Model Demonstration Projects on the Improvement of Adolescent Literacy for Students with Disabilities in Middle and High Schools in Grades 6-12 competition, CFDA number 84.326M, must be submitted electronically using the Government-wide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Model Demonstration Projects to Improve Adolescent Literacy for Students with Disabilities in Middle and High Schools, Grades 6-12 competition at www.Grants.gov. You must search for the downloadable application package for this competition by the CFDA number. Do not include the CFDA number's alpha suffix in your search (e.g., search for 84.326, not 84.326M).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material. Additional, detailed information on how to attach files is in the application instructions.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Greg Knollman, U.S. Department of Education, 400 Maryland Avenue SW., Room 4096, Potomac Center Plaza (PCP), Washington, DC 20202-2600. FAX: (202) 245-7617.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.326M), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.326M), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are provided in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors:

In the past, the Department has had difficulty finding peer reviewers for certain competitions because so many individuals who are eligible to serve as peer reviewers have conflicts of interest. The standing panel requirements under section 682(b) of IDEA also have placed additional constraints on the availability of reviewers. Therefore, the Department has determined that, for some discretionary grant competitions, applications may be separated into two or more groups and ranked and selected for funding within specific groups. This procedure will make it easier for the Department to find peer reviewers, by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 2 CFR 3474.10, the Secretary may impose special conditions and, in appropriate circumstances, high risk conditions on a grant if the applicant or grantee is not financially stable; has a history of unsatisfactory performance; has a financial or other management system that does not meet the standards in 2 CFR part 200; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children with Disabilities program. These measures focus on the extent to which projects provide high-quality products and services, the relevance of project products and services to educational and early intervention policy and practice, and the use of products and services to improve educational and early intervention policy and practice.

Grantees will be required to report information on their project's performance in annual reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Greg Knollman, U.S. Department of Education, 400 Maryland Avenue SW., Room 4096, PCP, Washington, DC 20202-2600. Telephone: (202) 245-6425.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 12, 2015.
Sue Swenson,
Acting Assistant Secretary for Special Education and Rehabilitative Services.

[FR Doc. 2015-06273 Filed 3-17-15; 8:45 am]

BILLING CODE 4000-01-P